DEPARTMENT OF TRANSPORTATION

Federal Aviation Administration

Environmental Impact Statement: San Antonio International Airport, San Antonio, TX

AGENCY: Federal Aviation Administration (FAA), DOT.

ACTION: Cancellation of the Notice of Intent to prepare a Draft Environmental Impact Statement (DEIS) for proposed airport development projects at San Antonio International Airport.

SUMMARY: The FAA is issuing this notice to advise that it is withdrawing its Notice of Intent to prepare a DEIS for proposed projects at the San Antonio International Airport, San Antonio, Texas.

Proposed airport projects included the extension of Runway 3/21, extension and widening of Runway 12L/30R, potential uses of approximately 180 acres of Airport owned land and, evaluation of air traffic or procedural actions recommended in the Airport's 14 CFR part 150 Noise Compatibility Program.

Widening of Runway 12L/30R and air traffic procedures recommended in the Airport's CFR Part 150 Noise Compatibility Program have been withdrawn from consideration in the EIS. Preliminary lack of significant adverse impacts from remaining proposed projects indicated that an EIS is no longer required. Instead, the City of San Antonio will prepare a Draft Environmental Assessment (DEA) for the use of Airport owned land, extension of Runway 3/21 and miscellaneous airport improvement projects.

FOR FURTHER INFORMATION CONTACT: Mr. Paul Blackford, Environmental Specialist, Federal Aviation Administration, Southwest Region, Texas Airports Development Office, Federal Aviation Administration, Southwest Regional Office, Forth Worth, Texas 76193-0650. Telephone (817) 222-5607.

SUPPLEMENTARY INFORMATION: The FAA, in cooperation with the City of San Antonio, determined that capacity improvements to Runway 12L/30R are more appropriate for a future date. Additionally, FAA determined that procedural actions recommended in the Airport's 14 CFR Part 150 Noise Compatibility Program would conflict with existing airspace utilization. Both proposed projects were therefore removed from evaluation in the EIS. The preliminary lack of adverse impacts from the remaining projects indicates that a DEIS is no longer required under the National Environmental Policy Act.

The public will be given the opportunity to review the DEA during the 30-day public comment period. Prior to the close of the comment period, any person may make a written request for a public meeting, setting forth the particular reasons for the request. The FAA will then determine whether the issues raised are substantial and should be considered in making their decision. If a public meeting is warranted, all known interested parties will be notified of the time, date, and location of such a meeting in the local news media.

Issued on: December 19, 2005.
Kelvin L. Solco,
Manager, Airports Division.

[FR Doc. 05-24534 Filed 12-27-05; 8:45 am]

BILLING CODE 4910-13-M